DEPARTMENT OF DEFENSE

Office of the Secretary

Defense Task Force on Sexual Assault in the Military Services

AGENCY: Office of the Under Secretary of Defense (Personnel and Readiness); DoD.

ACTION: Committee meeting.

SUMMARY: On January 29, 2009 (74 FR 5149), the Department of Defense announced a meeting of the Defense Task Force on Sexual Assault in the Military Services. This notice is published to provide the correct address of the meeting location. All other information remains the same.

ADDRESSES: Coronado Island Marriott, 2000 Second Street, Marius Room, Coronado, California 92118.

FOR FURTHER INFORMATION CONTACT: Colonel Jackson-Chandler, Designated Federal Officer, Defense Task Force on Sexual Assault in the Military Services, 2850 Eisenhower Avenue, Suite 100, Alexandria, Virginia 22314; Telephone: (703) 325-6640; Fax: 703-325-6710/6711; DSN number 221-6640; cora.chandler@wso.whs.mil.

Dated: January 30, 2009.
Patrica Toppings,
OSD Federal Register Liaison Officer, Department of Defense.

[FR Doc. E9-2490 Filed 2-5-09; 8:45 am]

BILLING CODE 5001-06-P